DEPARTMENT OF JUSTICE

Notice of Lodging of Proposed Material Modification to Consent Decree Under the Clean Water Act

On April 10, 2024, the Department of Justice lodged a proposed material modification to a Consent Decree (“Decree”) with the United States District Court for the Eastern District of Kentucky in the lawsuit entitled United States and Commonwealth of Kentucky v. Lexington-Fayette Urban County Government, Civil Action No. 5:06-cv-386-KSF.

The Consent Decree—entered by the court in 2011—resolved alleged violations of the Clean Water Act stemming from Lexington-Fayette Urban County Government's (“LFUCG”) operation of its sanitary sewer system and wastewater treatment plant. The Decree—including a First Material Modification entered by the court in 2015—required LFUCG to complete remedial projects to its sewer system and wastewater treatment plant to eliminate sanitary sewer overflows by December 31, 2026. The proposed material modification extends the final compliance deadline for remedial projects by four years to December 31, 2030, as well as making changes to reporting frequency and methods.

The publication of this notice opens a period for public comment on the proposed modification. Comments should be addressed to the Assistant Attorney General, Environment and Natural Resources Division, and should refer to United States and Commonwealth of Kentucky v. Lexington-Fayette Urban County Government, D.J. Ref. No. 90-5-1-1-08858. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed modification, along with the previously entered Consent Decree and First Material Modification, may be examined and downloaded at this Justice Department website: http://www.justice.gov/enrd/consent-decrees. If you require assistance accessing the proposed material modification, you may request assistance by email or by mail to the addresses provided above for submitting comments.

Scott D. Bauer,
Assistant Section Chief, Environmental Enforcement Section, Environment and Natural Resources Division.

[FR Doc. 2024-07935 Filed 4-15-24; 8:45 am]

BILLING CODE 4410-15-P